DEPARTMENT OF JUSTICE

Notice of Lodging of Consent Decree Pursuant to the Comprehensive Environmental Response, Compensation and Liability Act

In accordance with 28 CFR 50.7 and section 122 of the Comprehensive Environmental Response, Compensation and Liability Act (“CERCLA”), 42 U.S.C. 9622, the Department of Justice gives notice that a proposed consent decree, in United States, et al.,v. City of Waukegan, Illinois, et al., Civil No. 04 C 5172 (N.D. Ill.), was lodged with the United States District Court for the Northern District of Illinois on August 11, 2004, pertaining to the Waukegan Manufactured Gas & Coke Plant Site (the “Site”), Operable Unit #2 of the Outboard Marine Corporation Superfund Site located in Waukegan, Lake County, Illinois. The proposed consent decree would resolve the United States' civil claims under sections 106 and 107 of CERCLA, 42 U.S.C. 9606 and 9607, against the Settling Defendants, two current owners of portions of the Site, and three former owners and operators of the Site.

Under the proposed Consent Decree Performing Settling Defendants, General Motors Corp. (“GM”) and North Shore Gas Co. (“North Shore”), are obligated to finance and perform the remedial action at the Site selected by U.S. Environmental Protection Agency (“U.S. EPA”) in a September 1999 Record of Decision (“ROD”). The City of Waukegan, IL (the “City”) will perform the operation and maintenance (“O&M”) portion of the remedy relating to soil cleanup at the Site using funds in an escrow account established by the Performing Settling Defendants. The Owner Settling Defendants, the City and Larsen Marine Service, Inc., are obligated to provide the access agreements and institutional controls required to implement the selected remedy. The Buyout Settling Defendant, Elgin Joliet & Eastern Railway Co., will pay GM and North Shore 10% of the cost of the remedial action, pursuant to a separate agreement among the Settling Defendants. The total cost of the remedial action is estimated to be approximately $27 million.

The Performing Settling Defendants will pay U.S. EPA's and the State of Illinois' (the “State's”) Interim Response Costs, primarily oversight costs paid or incurred between September 2002 and the effective date of the Consent Decree. In addition, the Performing Settling Defendants will pay all U.S. EPA's Future Response Costs excluding the first $1.35 million of Future Oversight Costs.

The Department of Justice will receive, for a period of thirty (30) days from the date of this publication, comments relating to the proposed consent decree. Comments should be addressed to the Assistant Attorney General, Environment and Natural Resources Division, United States Department of Justice, Washington, DC 20530, and should refer to United States, et al., v. City of Waukegan, Illinois, et al., Civil No. o4-C-5172 (N.D. Ill.), and DOJ Reference No. 90-11-3-07051. Commenters may request an opportunity for a public meeting in the affected area, in accordance with section 7003(d) of RCRA, 42 U.S.C. 6973(d).

The proposed consent decree may be examined at: (1) The Office of the United States Attorney for the Northern District of Illinois, 219 South Dearborn Street, 5th Floor, Chicago, IL 60604, (312-252-1994); and (2) the United States Environmental Protection Agency (Region 5), 77 West Jackson Blvd., Chicago, IL 60604-3507 (contact: Susan Tennenbaum (312-886-0273)). A copy of the proposed consent decree may be obtained by mail from the Consent Decree Library, U.S. Department of justice, P.O. Box 7611, Washington, DC 20044-7611. In requesting a copy, please refer to the referenced case and DOJ Reference Number and enclose a check in the amount of $23.50 for the consent decree only (94 pages, at 254 cents per page reproduction costs), or $123.00 for the consent decree and all appendices (492 pages), made payable to the Consent Decree Library.

W. Benjamin Fisherow,
Deputy Chief, Environmental Enforcement Section, Environment and Natural Resources Division.

[FR Doc. 04-19486 Filed 8-24-04; 8:45 am]

BILLING CODE 4410-15-M